Proclamation 7349 of September 29, 2000

Child Health Day, 2000

By the President of the United States of America

A Proclamation

As parents and as concerned citizens, we have a profound responsibility to ensure that America's children not only receive a healthy start in life, but also that they continue to grow and develop in a nurturing environment where they have the opportunity to reach their full potential.

Recognizing the importance of healthy, happy children to the future of our Nation, my Administration has strived to offer America's families the tools they need to fulfill their responsibilities. In 1997, I was proud to sign into law the Child Health Insurance Program (CHIP), the largest investment in children's health care since the creation of Medicaid 35 years ago. This innovative program allows States to use Federal funds to provide health insurance for children of working families whose incomes are too high to qualify for Medicaid but too low to afford private health insurance. Children with health insurance are more likely to receive the immunizations and other preventive care they need to avoid serious illnesses and to enjoy a healthier start in life. In March of 1997, only 4 States provided such coverage for children. Today, 30 States have plans approved to cover qualified children, and I have proposed an additional $5.5 billion over the next 10 years to cover even more children and to raise awareness of CHIP among families who may not realize they are eligible.

In addition to quality health care, children need nutritious meals every day. I am pleased that our national school lunch program provides healthy lunches to more than 25 million students in more than 96,000 schools across our nation, ensuring that some of our most vulnerable children can look forward to at least one healthy meal each day. We can also be heartened to know that children enrolled in programs funded under the Department of Agriculture's Special Supplemental Program for Women, Infants, and Children not only receive the nutritious food they need, but also are immunized earlier, perform better in school, and spend less time in the doctor's office.

Since 1965, in addition to engaging parents in the early educational development of their children, the Head Start program has provided medical, mental health, nutrition, and dental services to more than 17 million children from birth to age 5. My Administration will continue this investment by increasing Head Start funding in our proposed fiscal 2001 budget by $1 billion—the largest Head Start expansion in history.

It is also our responsibility to ensure that our children feel part of a safe, strong, nurturing community. Through our Safe Schools/Healthy Students initiative, my Administration is helping parents, school principals, police, and mental health providers to collaborate on local solutions to school and youth violence. My proposed budget for fiscal 2001 includes an increase of more than $100 million for this program. I have also called on the Congress to allow eligible workers under the Family and Medical Leave Act to take up to 24 hours of additional leave each year to meet family obligations, including school activities such as parent-teacher conferences. America is enjoying a period of unprecedented economic success today; but we will never be truly successful as a Nation until we ensure that all families have the tools and opportunity they need in order to raise healthy children. To acknowledge the importance of our children's health, the Congress, by joint resolution approved May 18, 1928, as amended (36 U.S.C. 105), has called for the designation of the first Monday in October as “Child Health Day” and has requested the President to issue a proclamation in observance of this day.

NOW, THEREFORE, I, WILLIAM J. CLINTON, President of the United States of America, do hereby proclaim Monday, October 2, 2000, as Child Health Day. I call upon families, schools, communities, and governments to dedicate themselves to promoting and protecting the health and well-being of all our children.

IN WITNESS WHEREOF, I have hereunto set my hand this twenty-ninth day of September, in the year of our Lord two thousand, and of the Independence of the United States of America the two hundred and twenty-fifth.

wj

[FR Doc. 00-25676

Filed 10-3-00; 8:45 am]

Billing code 3195-01-P